FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants

NATCO USA, Inc., 19227 72nd Avenue S., Kent, VA 98032, Officers: Donald W. Jay, President (Qualifying Individual), Mary M. Jay, Secretary.

Tran Smart Logistics, Inc., 161-15 Rockaway Blvd., #307, Jamaica, NY 11434, Officer: Tom S. Lee, President (Qualifying Individual).

Legacy Worldwide Logistics, Inc., 115 S. Corona Avenue, Suite 2C, Valley Atream, NY 11580, Officers: Thomas Leibman, President (Qualifying Individual), Stacy Vance, Secretary.

Non-Vessel-Operating Common Carrier and Ocean Freight Forwarder Transportation Intermediary Applicants

Prime Van Lines, Inc., 4100 West Side Avenue, North Bergen, NJ 07047, Officers: Sonia Fernandez, Treasurer (Qualifying Individual), Betty Bendavid, President.

The Valdan Group, LLC, 1629 World Trade Center Loop, Laredo, TX 78045, Officers: Daniel J. Petrie, Owner (Qualifying Individual), Valerie Petrie, Owner.

Dated: February 3, 2006.
Bryant L. VanBrakle,
Secretary.

[FR Doc. E6-1712 Filed 2-7-06; 8:45 am]

BILLING CODE 6730-01-P